Title 3—

The President

Proclamation 7861 of January 12, 2005

National Mentoring Month, 2005

By the President of the United States of America

A Proclamation

All Americans are grateful for the special people who played a positive role in their childhood. Whether a relative, teacher, coach, or community leader, a dedicated mentor can profoundly change a young person's life. During National Mentoring Month, we recognize the role models who have influenced lives, and we continue to support programs that help the young people of America.

Mentoring programs pair a child in need with a caring adult who can help that child understand the importance of making the right choices in life. It is one of the best ways to send young people the right messages. Through friendship and encouragement, mentors can help prepare young Americans for a hopeful future.

My Administration has supported mentoring programs for young people at risk. In August 2004, my Administration made available over $45 million in grants to help provide mentors for children with parents in prison. In addition, my Administration provided $48 million in school-based grants in 2004 to provide at-risk youth with mentors to assist them in the successful transition from elementary to secondary school.

One mentor can change a life forever. I encourage all of our citizens to dedicate their time and talents to mentoring a young person. By providing help and hope to our youth, mentors help foster a more compassionate society that values every life and leaves no child behind.

NOW, THEREFORE, I, GEORGE W. BUSH, President of the United States of America, by virtue of the authority vested in me by the Constitution and laws of the United States, do hereby proclaim January 2005 as National Mentoring Month. I call upon the people of the United States to recognize the importance of mentoring, to look for opportunities to serve as mentors in their communities, and to celebrate this month with appropriate activities and programs.

IN WITNESS WHEREOF, I have hereunto set my hand this twelfth day of January, in the year of our Lord two thousand five, and of the Independence of the United States of America the two hundred and twenty-ninth.

B

[FR Doc. 05-1036

Filed 1-14-05; 8:45 am]

Billing code 3195-01-P